NATIONAL SCIENCE FOUNDATION

Request for Information—Interagency Arctic Research Policy Committee, Chaired by the National Science Foundation

AGENCY: National Science Foundation.

ACTION: Request for information.

SUMMARY: The Interagency Arctic Research Policy Committee (IARPC), chaired by the National Science Foundation, seeks public input on the content and organization of the next 5-year Arctic Research Plan: 2022-2026.

DATES: Written comments must be submitted no later than July 2, 2020.

ADDRESSES: Email comments to IARPCPlan@nsf.gov. Send written submissions to Roberto Delgado, Office of Polar Programs, National Science Foundation, 2415 Eisenhower Avenue, Alexandria, VA 22314.

FOR FURTHER INFORMATION: Contact Meredith LaValley at 940-733-5675.

SUPPLEMENTARY INFORMATION:

The Interagency Arctic Research Policy Committee (IARPC) is initiating development of the next Arctic Research Plan, as called for in the Arctic Research Policy Act (ARPA) of 1984 (15 U.S.C. 4108). The Plan aims to strengthen interagency communication, coordination, and collaboration of the 14 Federal agencies, departments and offices that make up IARPC. The Plan will address critical needs in Arctic research and identify those areas where research in the Arctic can be improved through interagency collaboration. More information is available at https://www.iarpccollaborations.org/arctic-research-plan-2022-2026.html.

About IARPC

IARPC is chartered as a subcommittee under the National Science and Technology Council (NSTC) managed by the Office of Science and Technology Policy (OSTP) in the Executive Office of the President. The Arctic Research Policy Act of 1984 (ARPA) provides for a comprehensive national policy dealing with national research needs and objectives in the Arctic. The ARPA established an Arctic Research Commission (ARC) and an Interagency Arctic Research Policy Committee (IARPC), to implement the Act. IARPC was formally created by Executive Order 12501 and with the Director of the National Science Foundation serving as Chair.

IARPC is charged with enhancing both the scientific monitoring of and research on local, regional, and global environmental issues in the Arctic. To meet the Nation's economic, scientific, and environmental needs, IARPC envisions a prosperous, sustainable and healthy Arctic realized through research coordinated among Federal agencies and domestic and international collaborators.

About the Arctic Research Plan

IARPC is required by law to prepare and execute a 5-year Arctic Research Plan, which helps to coordinate the overall Federal effort in Arctic research. To address the interests and needs of all, IARPC works in partnership with representatives from local communities, Indigenous Peoples, the State of Alaska, the private sector, non-governmental organizations, research institutions, and the academic community. To date, two research Plans have been released and implemented. The current Plan, “Arctic Research Plan 2017-2021,” has four policy drivers and nine research goals (see below). The current Plan is being implemented by nine collaboration teams which are co-led by program managers and researchers from IARPC agencies and individuals from the research community and Alaska Native partners.

In September 2019, the IARPC Principals approved the development of the next Arctic Research Plan, covering the period of 2022-2026, with a planned release date at the end of calendar year 2021.

Plans reflect the goals and missions of the Federal agencies supporting research in the Arctic and are developed in coordination with the goals and objectives set out by the Arctic Research Commission. Arctic Research Plans focus on research which will be enhanced through collaboration among Federal agencies. The new Arctic Research Plan will provide a blueprint for effective Federal coordination of Arctic research for the period 2022-2026, positioning the United States to remain a global leader in Arctic research and stewardship for many years to come.

Seeking Input

As called for in the ARPA, IARPC seeks input to ensure that the research interests and needs of all are addressed appropriately in the new Plan. Input is sought from any interested individuals and organizations, and IARPC is committed to an open and equitable engagement process throughout the development of the Plan. A second Federal Register Notice, seeking input from interested individuals and organizations, will be posted when a draft of the new Arctic Research Plan is ready in 2021.

IARPC is soliciting input on:

1. Content of the Plan: The critical issues where Federally-funded science and engineering research can provide knowledge to promote good decision-making at all levels related to the Arctic.

2. Organization of the Plan: The structure of the Arctic Research Plan and how it might be updated to better meet and communicate the science needs and plans for the Arctic.

The current Plan “Arctic Research Plan 2017-2021” has four policy drivers and nine research goals.

The policy drivers for the Arctic Research Plan FY2017-2021 are:

• Enhance the well-being of Arctic residents;

• Advance stewardship of the Arctic environment;

• Strengthen national and regional security; and

• Improve understanding of the Arctic as a component of planet Earth.

The 9 goals of the Arctic Research Plan FY2017-2021 are:

• Enhance understanding of health determinants and improve the well-being of Arctic residents;

• Advance process and system understanding of the changing Arctic atmospheric composition and dynamics and the resulting changes to surface energy budgets;

• Enhance understanding and improve predictions of the changing Arctic sea ice cover;

• Increase understanding of the structure and function of Arctic marine ecosystems and their role in the climate system and advance predictive capabilities;

• Understand and project the mass balance of glaciers, ice caps, and the Greenland Ice Sheet, and their consequences for sea level rise;

• Advance understanding of processes controlling permafrost dynamics and the impacts on ecosystems, infrastructure, and climate feedbacks;

• Advance an integrated, landscape-scale understanding of Arctic terrestrial and freshwater ecosystems and the potential for future change;

• Strengthen coastal community resilience and advance stewardship of coastal natural and cultural resources by engaging in research related to the interconnections of people, and natural and built environments; and

• Enhance frameworks for environmental intelligence gathering, interpretation, and application toward decision support.

For the full Arctic Research Plan 2017-2021, see: https://www.iarpccollaborations.org/download.axd?file=iarpc_arctic_research_plan_2017-2021.pdf.

For the full Arctic Research Plan 2013-2017, see: https://www.iarpccollaborations.org/uploads/cms/documents/2013_arctic_research_plan.pdf.

For details on the conduct of research we aim to support in the new Plan, see the Principles for Conducting Research in the Arctic: https://www.iarpccollaborations.org/uploads/cms/documents/principles_for_conducting_research_in_the_arctic_final_2018.pdf.

Dated: March 31, 2020.
Suzanne H. Plimpton,
Reports Clearance Officer, National Science Foundation.

[FR Doc. 2020-07040 Filed 4-2-20; 8:45 am]

BILLING CODE 7555-01-P